COMMITTEE FOR PURCHASE FROM PEOPLE WHO ARE BLIND OR SEVERELY DISABLED

Procurement List; Additions and Deletion

AGENCY: Committee for Purchase From People Who are Blind or Severely Disabled.

ACTION: Additions to and deletion from Procurement List.

SUMMARY: This action adds to the Procurement List products and services to be furnished by nonprofit agencies employing persons who are blind or have other severe disabilities, and delete from the Procurement List a product previously furnished by such agencies.

DATES: Effective Date: April 30, 2006.

ADDRESSES: Committee for Purchase From People Who are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly @jwod.gov.

SUPPLEMENTARY INFORMATION:

Additions

On January 27, and February 3, 2006, the Committee for Purchase From People Who are Blind or Severely Disabled published notice (71 FR 4567, and 5809) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Specimen Container.

NSN: 6550-00 -NIB-0010—¼ turn cap, sterile.

NSN: 6550-00 -NIB-0011—¼ turn cap, non-sterile.

NSN: 6550-00 -NIB-0013—full turn cap, non-sterile.

NSN: 6550-00 -NIB-0009—¼ turn cap, sterile individually wrapped.

NPA: Alphapointe Association for the Blind, Kansas City, Missouri.

Contracting Activity: Veterans Affairs National Acquisition Center, Hines, Illinois.

Services

Service Type/Location: Basewide Custodial Services (Remaining 51%), Naval Submarine Base New London, Box 26, Bldg. 135, Groton, Connecticut.

NPA: CW Resources, Inc., New Britain, Connecticut.

Contracting Activity: Naval Facilities Engineering Command, Groton, Connecticut.

Service Type/Location: Document Destruction.

NISH, Vienna, Virginia (PRIME CONTRACTOR). Performance to be allocated to the Nonprofit Agencies identified at the following locations.

Internal Revenue Service, 1700 Palm Beach Lakes Boulevard, West Palm Beach, Florida; 7410 South U.S. Highway One, Port St. Lucie, Florida.

NPA: Association for Retarded Citizens of Indian River County, Vero Beach, Florida.

Internal Revenue Service, 2891 Center Point Drive, Fort Myers, Florida; 2201 Cantu Court, Sarasota, Florida; 300 Lock Road, Deerfield Beach, Florida; 51 SW. First Avenue, Miami, Florida; 7850 SW. 6th Court, Plantation, Florida; Royal Palm One, Suite 340, 1000 South Pine Island Road, Plantation, Florida.

NPA: Goodwill Industries of South Florida, Inc., Miami, Florida.

Contracting Activity: U.S. Treasury, IRS, Chamblee, Georgia.

Deletion

On January 27, 2006, the Committee for Purchase From People Who Are Blind or Severely Disabled published notice (71 FR 4567) of proposed deletion to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Cloth, Abrasive.

NSN: 5350-00-187-6296—Cloth, Abrasive.

NPA: Louisiana Association for the Blind, Shreveport, Louisiana.

Contracting Activity: GSA, Southwest Supply Center, Fort Worth, Texas.

G. John Heyer,
General Counsel.

[FR Doc. E6-4691 Filed 3-30-06; 8:45 am]

BILLING CODE 6353-01-P